DEPARTMENT OF LABOR

Employment and Training Administration

Workforce Information Advisory Council; Charter Renewal

AGENCY: Employment and Training Administration, Labor.

ACTION: Notice of renewal.

SUMMARY: The Department of Labor (Department) announces the renewal of the Workforce Information Advisory Council (WIAC) charter.

FOR FURTHER INFORMATION CONTACT: Steve Rietzke, Division of National Programs, Tools, and Technical Assistance, Office of Workforce Investment (address above); (202) 693-3912; or use email address for the WIAC, WIAC@dol.gov.

SUPPLEMENTARY INFORMATION:

I. Background and Authority

Section 15 of the Wagner-Peyser Act, 29 U.S.C. 49 l-2, as amended by section 308 of the Workforce Innovation and Opportunity Act of 2014 (WIOA), Public Law 113-128 requires the Secretary of Labor (Secretary) to establish and maintain the WIAC.

The statute, as amended, requires the Secretary, acting through the Commissioner of Labor Statistics and the Assistant Secretary for Employment and Training, to formally consult at least twice annually with the WIAC to address: (1) Evaluation and improvement of the nationwide workforce and labor market information system established by the Wagner-Peyser Act, and of the statewide systems that comprise the nationwide system, and (2) how the Department and the States will cooperate in the management of those systems. The Secretary, acting through the Bureau of Labor Statistics (BLS) and the Employment and Training Administration (ETA), and in consultation with the WIAC and appropriate Federal agencies, must also develop a 2-year plan for management of the system, with subsequent updates every two years thereafter. The statute generally prescribes how the plan is to be developed and implemented, outlines the contents of the plan, and requires the Secretary to submit the plan to designated authorizing committees in the House and Senate.

By law, the Secretary must “seek, review, and evaluate” recommendations from the WIAC, and respond to the recommendations in writing to the WIAC. The WIAC must make written recommendations to the Secretary on the evaluation and improvement of the workforce and labor market information system, including recommendations for the 2-year plan. The 2-year plan, in turn, must describe WIAC recommendations and the extent to which the plan incorporates them.

The WIAC accomplishes its objectives by, for example: (1) Studying workforce and labor market information issues; (2) seeking and sharing information on innovative approaches, new technologies, and data to inform employment, skills training, and workforce and economic development decision making and policy; and (3) advising the Secretary on how the workforce and labor market information system can best support workforce development, planning, and program development.

II. Structure

The Wagner-Peyser Act at section 15(d)(2)(B), requires the WIAC to have 14 representative members, appointed by the Secretary, consisting of:

(i) Four members who are representatives of lead State agencies with responsibility for workforce investment activities, or State agencies described in Wagner-Peyser Act Section 4 (agency designated or authorized by Governor to cooperate with the Secretary), who have been nominated by such agencies or by a national Start Printed Page 39021 organization that represents such agencies;

(ii) Four members who are representatives of the State workforce and labor market information directors affiliated with the State agencies responsible for the management and oversight of the workforce and labor market information system as described in Wagner-Peyser Act Section 15(e)(2), who have been nominated by the directors;

(iii) One member who is a representative of providers of training services under WIOA section 122 (Identification of Eligible Providers of Training Services);

(iv) One member who is a representative of economic development entities;

(v) One member who is a representative of businesses, who has been nominated by national business organizations or trade associations;

(vi) One member who is a representative of labor organizations, who has been nominated by a national labor federation;

(vii) One member who is a representative of local workforce development boards, who has been nominated by a national organization representing such boards; and

(viii) One member who is a representative of research entities that use workforce and labor market information.

The Secretary must ensure that the membership of the WIAC is geographically diverse, and that no two members appointed under clauses (i), (ii), and (vii), above, represent the same State. Each member will be appointed for a term of three years and the Secretary will not appoint a member for any more than two consecutive terms. Any member whom the Secretary appoints to fill a vacancy occurring before the expiration of the predecessor's term will be appointed only for the remainder of that term. Members of the WIAC will serve on a voluntary and generally uncompensated basis, but will be reimbursed for travel expenses to attend WIAC meetings, including per diem in lieu of subsistence, as authorized by the Federal travel regulations. All WIAC members serve at the pleasure of the Secretary. Members may be appointed, reappointed, or replaced, and their terms may be extended, changed, or terminated at the Secretary's discretion. A member's excessive absence from WIAC meetings may result in the member's removal and replacement.

Authority: Pursuant to the Wagner-Peyser Act of 1933, as amended, 29 U.S.C. 49 et seq.; Workforce Innovation and Opportunity Act, Public Law 113-128; Federal Advisory Committee Act, as amended, 5 U.S.C. App.

Suzan G. LeVine,
Principal Deputy Assistant Secretary for Employment and Training Administration.

[FR Doc. 2021-14679 Filed 7-9-21; 8:45 am]

BILLING CODE 4510-FN-P